CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirements on respondents can be properly assessed. Individuals who use a telecommunications device for the deaf (TTY-TDD) may call (202) 565-2799 between 8:30 a.m. and 5 p.m. eastern time, Monday through Friday.

Currently, the Corporation is soliciting comments concerning its proposed renewal of its Disaster Response Database (DRD). The DRD is a data collection tool that allows the Corporation to collect information from its programs and grantees on disaster response activities across the country. This tool serves as a central repository of information on Corporation disaster response activities for reporting to the public.

Copies of the information collection request can be obtained by contacting the office listed in the ADDRESSES section of this notice.

DATES: Written comments must be submitted to the individual and office listed in the ADDRESSES section by May 18, 2009.

ADDRESSES: You may submit comments, identified by the title of the information collection activity, by any of the following methods:

(1) By mail sent to: Corporation for National and Community Service; Attention Phil Shaw, Emergency Management Coordinator, 9th Floor; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3477, Attention Phil Shaw, Emergency Management Coordinator.

(4) Electronically through the Corporation's e-mail address system: pshaw@cns.gov.

FOR FURTHER INFORMATION CONTACT: Phil Shaw, (202) 606-6697, or by e-mail at pshaw@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation for National and Community Service regularly engages its national service programs and grantees to respond to disasters as a part of its mandate to promote community service and meet community needs. The great number of national service participants and variety of support offered necessitate a centralized reporting tool to track and measure resources dedicated to supporting communities recovering from disaster.

Current Action: The Corporation seeks to renew the data collection: CNCS Disaster Response Database (OMB control number 3015-0114) scheduled to expire on June 30th, 2009. The database is a Web-based system that permits programs and grantees to report contributions to disaster responses. The system will be updated to include a previously approved quantifiable accomplishment reporting module.

The current data collection can be found at http://www.nationalservice.gov/relief/tbl_response/AddTbl_responsePage.aspx.

Type of Review: Renewal.

Agency: Corporation for National and Community Service.

Title: Disaster Relief Information Collection.

OMB Number: 3045-0114.

Agency Number: None.

Affected Public: Corporation for National and Community Service programs/grantees involved in disaster activities.

Total Respondents: 100.

Frequency: Every two weeks.

Average Time per Response: Averages 30 minutes.

Estimated Total Burden Hours: 50 Hours.

Total Burden Cost (capital/startup): None.

Total Burden Cost (operating/maintenance): None.

Comments submitted in response to this notice will be summarized and/or included in the request for Office of Management and Budget approval of the information collection request; they will also become a matter of public record.

Dated: March 12, 2009.
Kristin McSwain,
Chief of Program Operations.

[FR Doc. E9-5884 Filed 3-17-09; 8:45 am]

BILLING CODE 6050-$$-P